DEPARTMENT OF AGRICULTURE

National Agricultural Statistics Service

Notice of Intent to Seek Approval to Conduct an Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intent of the National Agricultural Statistics Service (NASS) to request approval for an information collection, the Nursery and Greenhouse Production and Chemical Use Survey.

DATES: Comments on this notice must be received by July 7, 2000 to be assured of consideration.

ADDITIONAL INFORMATION OR COMMENTS: Contact Rich Allen, Associate Administrator, National Agricultural Statistics Service, U.S. Department of Agriculture, 1400 Independence Avenue SW, Room 4117 South Building, Washington, DC 20250-2000; (202) 720-4333.

SUPPLEMENTARY INFORMATION: Title: Nursery and Greenhouse Production and Chemical Use Survey.

Type of Request: Intent to Seek Approval to Conduct an Information Collection.

Abstract: The goal of this National Agricultural Statistics Service project is to measure (1) Production and value of key nursery products, (2) chemical use in nurseries and greenhouses, and (3) chemical use in floriculture. Nursery and greenhouse production in the United States was valued at more than $10 billion in 1998 and is the fastest growing segment of American agriculture. USDA, however, has not previously made regular estimates of nursery production. The first part of this survey will start assessing the production and economic contribution of the nursery industry to U.S. agriculture every 2 years. Similarly, the amount of chemical usage in nursery and greenhouse operations is not currently known. The second part of this survey will measure the chemical products applied to nursery and greenhouse products, their rate of application, and total amount of active ingredients applied. The results of this part of the information collection will provide policy makers with the information necessary to make informed and unbiased decisions concerning pesticide registrations.

A census of the approximately 5,500 nursery and greenhouse operations in the 14 major producing States will be conducted to estimate production. Most operations will receive the production-only mail questionnaire but a sample will be personally interviewed with the production questionnaire plus a chemical use questionnaire.

Parts one and two, then, will address the following objectives: measure production and value of key categories of nursery and greenhouse products, identify chemical products used by the nursery and greenhouse industries, and measure application rates and total amount of active ingredients applied.

The third part of this survey involves the operations in the separate Commercial Floriculture Survey, conducted in the 12 major floriculture-producing States. Like the nursery survey, most floriculture operations will receive the production-only mail questionnaire but a sample will be personally interviewed with the production questionnaire plus a chemical use questionnaire.

Data collection for all three parts is scheduled to coincide with the annual Commercial Floriculture Survey (of production, OMB docket #0535-0093) in January-March 2001. Operations that are selected for production information only will be contacted by mail or telephone. Operations selected for chemical usage information will have a face-to-face interview since chemical use data are not adequately collected by telephone or mail. These data will be collected under the authority of 7 U.S.C. 2204(a). Individually identifiable data collected under this authority are governed by Section 1770 of the Food Security Act of 1985, 7 U.S.C. 2276, which requires USDA to afford strict confidentiality to non-aggregated data provided by respondents.

Estimate of Burden: Based on data collected on the Commercial Floriculture Survey and previously conducted chemical use surveys, it is estimated that the production-only mail questionnaire will take about ½ hour to complete and personal interviews will take ½ hour for the production portion and ½ hour for the chemical use portion. Floriculture production data are covered by the separate docket and will not count toward this estimate of burden. There will be an advance letter to all operations. A response rate of 85% is expected.

Respondents: Producers of nursery and greenhouse products.

Estimated Number of Respondents: 8,000.

Estimated Total Annual Burden on Respondents: 4,200.

Copies of this information collection and related instructions can be obtained without charge from Ginny McBride, Agency OMB Clearance Officer, at (202) 720-5778.

COMMENTS: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162 South Building, Washington, DC 20250-2000. All responses to this notice will become a matter of public record and be included in the request for OMB approval.

Signed at Washington, DC, April 24, 2000.
Rich Allen,
Associate Administrator.

[FR Doc. 00-11051 Filed 5-2-00; 8:45 am]

BILLING CODE 3410-20-P